DEPARTMENT OF HOMELAND SECURITY

U.S. Customs and Border Protection

DEPARTMENT OF THE TREASURY

19 CFR Part 12

Special Classes of Merchandise

CFR Correction

In Title 19 of the Code of Federal Regulations, parts 0 to 140, revised as of April 1, 2015, on page 480, in § 12.74, in paragraph (b)(2), remove the phrase “a period of”.

[FR Doc. 2016-07558 Filed 3-31-16; 8:45 am]

BILLING CODE 1505-01-D